DEPARTMENT OF HOMELAND SECURITY

Bureau of Customs and Border Protection

New Test Program Regarding Electronic Foreign Trade Zone Admission Applications

AGENCY: Customs and Border Protection, Department of Homeland Security.

ACTION: General notice.

SUMMARY: In a document published in the Federal Register on August 19, 2005, the Bureau of Customs and Border Protection (CBP) announced its plan to conduct a voluntary program to test the viability of submitting electronic FTZ admission applications (CBP Form 214—“FTZ Admission and/or Status Designation”) to CBP via the Automated Broker Interface (ABI). The test program was intended to run for a period of approximately 6 months from the program's September 30, 2005 commencement date with a final evaluation to take place at the end of that period. This notice informs interested members of the public that after CBP's initial evaluation of the test program, it was determined that due to the insufficient data collected the test should be run again for a period of approximately 6 months from March 26, 2007. The new test program is intended to encourage greater participation in the prototype by the trade and thereby provide CBP with more meaningful data by which to assess the feasibility of implementing the test program on a permanent basis.

DATES: The Electronic FTZ Admission Application test program will resume for a period of 6 months from March 26, 2007. CBP may extend the test for additional periods of time by way of announcement in the Federal Register. Comments concerning this notice and any aspect of the prototype may be submitted at any time during the test period.

ADDRESSES: Written comments regarding this notice should be addressed to Customs and Border Protection, Office of Field Operations, Cargo Control Branch, 1300 Pennsylvania Avenue, NW., Room 5.2C, Washington, DC 20229.

FOR FURTHER INFORMATION CONTACT: Sonja Grant, Customs and Border Protection, Office of Field Operations, via e-mail at sonja.grant@dhs.gov.

SUPPLEMENTARY INFORMATION:

Background

Electronic Foreign Trade Zone Admission Application Test Program: Planned Component of the National Customs Automation Program

Title VI of the North American Free Trade Agreement Implementation Act (the Act), Public Law 103-182, 107 Stat. 2057 (December 8, 1993), contains provisions pertaining to Customs Modernization (107 Stat. 2170). Subpart B of Title VI of the Act concerns the National Customs Automation Program (NCAP), an electronic system for the processing of commercial importations. Within subpart B, section 631 of the Act added section 411 to the Tariff Act of 1930 (19 U.S.C. 1411-1414), which defines the NCAP, provides for the establishment of and participation in the NCAP, and includes a list of existing and planned components. Section 411(a)(2)(G) identifies any program initiated by Customs and Border Protection to carry out the automation goals of this subpart as a planned NCAP component. The planned test program described in this document falls within this category of planned NCAP component. Section 101.9(b) of title 19 of the Code of Federal Regulations (19 CFR 101.9(b)) provides for the testing of NCAP planned components. The Electronic Foreign Trade Zone (FTZ) Admissions Application prototype is being tested in accordance with this provision.

Description of the Test Program

A notice describing the Electronic FTZ Admissions Application test program and setting forth the program's terms and conditions was published in the Federal Register (70 FR 48774) on August 19, 2005. The voluntary test program permitted the electronic filing of FTZ admission applications (CBP Form 214—“FTZ Admission and/or Status Designation”) with CBP via the Automated Broker Interface (ABI). That document stated that the test program was to commence no earlier than September 30, 2005, and continue to run for a period of approximately 6 months with a final evaluation to take place at the end of that period.

This notice informs interested members of the public that after CBP's initial evaluation of the test program, it was determined that due to the insufficient data collected the test should be run again for a period of approximately 6 months from March 26, 2007. The new test program is intended to encourage greater participation in the prototype by the trade and thereby provide CBP with more meaningful data by which to assess the feasibility of implementing the test program on a permanent basis. A final evaluation will take place at the end of the test period.

All of the Electronic FTZ Admissions Application test program terms and conditions set forth in the August 19, 2005, Federal Register notice will be in effect.

Dated: March 15, 2007.
Jayson P. Ahern,
Assistant Commissioner, Office of Field Operations.

[FR Doc. E7-5431 Filed 3-23-07; 8:45 am]

BILLING CODE 9111-14-P